INTERNATIONAL TRADE COMMISSION

[Investigation Nos. 701-TA-318 and 731-TA-538 and 561 (Fifth Review)]

Sulfanilic Acid from China and India; Termination of Five-Year Review

AGENCY: United States International Trade Commission.

ACTION: Notice.

SUMMARY: The Commission instituted the subject five-year reviews on April 1, 2022 (87 FR 19131) to determine whether revocation of the antidumping duty orders on sulfanilic acid from China and India, and the countervailing duty order on imports of sulfanilic acid from India would be likely to lead to continuation or recurrence of material injury. On June 14, 2022, the Department of Commerce published notice (87 FR 35968) that it was revoking the orders effective May 9, 2022, because no domestic interested party filed a timely notice of intent to participate. Accordingly, the subject reviews are terminated.

DATES: May 9, 2022 (applicable date of revocation of the order).

FOR FURTHER INFORMATION CONTACT: Nayana Kollanthara (202-205-2043), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: These reviews are being terminated under authority of title VII of the Tariff Act of 1930 and pursuant to section 751(c) of the Tariff Act of 1930 (19 U.S.C. 1675(c)). This notice is published pursuant to § 207.69 of the Commission's rules (19 CFR 207.69).

By order of the Commission.
Issued: June 28, 2022.
Lisa Barton,
Secretary to the Commission.

[FR Doc. 2022-14111 Filed 6-30-22; 8:45 am]

BILLING CODE 7020-02-P